ENVIRONMENTAL PROTECTION AGENCY

[EPA-HQ-OAR-2022-0706; FRL-10934-01-OMS]

Agency Information Collection Activities; Submission to the Office of Management and Budget for Review and Approval; Comment Request; Production, Import, Export, Recycling, Destruction, Transhipment, and Feedstock Use of Ozone-Depleting Substances (Renewal)

AGENCY: Environmental Protection Agency (EPA).

ACTION: Notice.

SUMMARY: The Environmental Protection Agency (EPA) has submitted an information collection request (ICR), Production, Import, Export, Recycling, Destruction, Transhipment, and Feedstock Use of Ozone-Depleting Substances (EPA ICR Number 1432.38, OMB Control Number 2060-0170) to the Office of Management and Budget (OMB) for review and approval in accordance with the Paperwork Reduction Act. This is a proposed extension of the ICR, which is currently approved through April 30, 2023. Public comments were previously requested via the Federal Register on August 24, 2022 during a 60-day comment period. This notice allows for an additional 30 days for public comments.

DATES: Comments may be submitted on or before May 31, 2023.

ADDRESSES: Submit your comments, referencing Docket ID Number EPA-HQ-OAR-2022-0706, to EPA online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Robert Burchard, Stratospheric Protection Division, (6205A), Environmental Protection Agency, 1200 Pennsylvania Ave. NW, Washington, DC 20460; telephone number: (202) 343-9126; email address: burchard.robert@epa.gov.

SUPPLEMENTARY INFORMATION: This is a proposed extension of the ICR, which is currently approved through April 30, 2023. An agency may not conduct or sponsor and a person is not required to respond to a collection of information unless it displays a currently valid OMB control number.

Public comments were previously requested via the Federal Register on August 24, 2022, during a 60-day comment period (87 FR 51976). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers provisions under the Montreal Protocol on Substances that Deplete the Ozone Layer (Montreal Protocol) and Title VI of the CAA that establish limits on total U.S. production, import, and export of class I and class II ozone-depleting substances (or controlled substances). Production and import of class I controlled substances (chlorofluorocarbons and others) was phased out in the United States. The phaseout includes exceptions for essential uses, critical uses of methyl bromide, quarantine and pre-shipment uses of methyl bromide, previously used material, and material that will be transformed or destroyed. There are also regulations that restrict the use of class II controlled substances and require a gradual reduction in the production and consumption of these chemicals leading to their eventual phaseout. The class II controlled substance phaseout regulations include exceptions for previously used material and material that will be transformed or destroyed.

Form Numbers: 5900-137, 5900-136, 5900-149, 5900-150, 5900-153, 5900-151, 5900-199, 5900-202, 5900-200, 5900-201, 5900-205, 5900-155, 5900-140, 5900-144, 5900-142, 5900-141, 5900-148, 5900-147, 5900-473, 5900-138, 5900-139, 5900-152, 5900-472, 5900-154, 5900-146.

Respondents/affected entities: Producers, importers, exporters, and certain users of ozone-depleting substances; methyl bromide applicators, distributors, and end users including commodity storage and quarantine users.

Respondent's obligation to respond: Mandatory (CAA sections 114, 603(b), and 604(d)(6)).

Estimated number of respondents: 1,174 (total).

Frequency of response: Quarterly, annually, as needed.

Total estimated burden: 3,022 hours (per year). Burden is defined at 5 CFR 1320.03(b)

Total estimated cost: $375,086 (per year), includes $8,250 annualized capital or operation & maintenance costs.

Changes in the Estimates: There is an increase of 83 hours in the total estimated respondent burden compared with the ICR currently approved by OMB. This increase is a result of updated assumptions associated with recordkeeping requirements that are more consistent with other ICRs that cover similar recordkeeping activities (e.g., the HFC Allowance Allocation Program ICR, OMB Control No. 2060-0734).

Courtney Kerwin,
Director, Regulatory Support Division.

[FR Doc. 2023-09060 Filed 4-28-23; 8:45 am]

BILLING CODE 6560-50-P